DEPARTMENT OF AGRICULTURE

Forest Service

Intermountain Region, Boise, Payette, and Sawtooth National Forests; ID; Amendment to the 2003 Land and Resource Management Plans: Wildlife Conservation Strategy (Forested Biological Community)

AGENCY: Forest Service, USDA.

ACTION: Correction of notice of intent (NOI) to prepare an environmental impact statement (EIS).

SUMMARY: On September 14, 2007, the Forest Service published an NOI to prepare an EIS to disclose the environmental effects of proposed nonsignificant amendments to the three Southwest Idaho Ecogroup (SWIE) 2003 Land and Resource Management Plans (Forest Plans). The September 2007 NOI noted that amendments to the 2003 Forest Plans for the Boise, Payette, and Sawtooth National Forests (NFs) will add, and/or modify existing, management direction, as needed, to implement a comprehensive, Forest Plan-level, wildlife conservation strategy (WCS). This NOI is being corrected to reflect a delay of more than a year in filing the draft EIS. This corrected NOI also provides notice of a change in the approach to the amendment process, in that the amendment process now has been tentatively divided into four phases, each supported by its own environmental impact statement.

DATES: Comments concerning this first proposed environmental analysis must be received within 30 days following the date of publication of this NOI. The draft ETS is expected to be available in spring 2009 for a 45-day public comment period. The final EIS and three Records of Decision (RODs), one for each Forest Plan, are expected to be completed by summer 2009.

ADDRESSES: Send written comments to Randall Hayman, Forest Planner, Boise National Forest; 1249 South Vinnell Way, Suite 200; Boise, Idaho 83709; or by fax at 208 373-4111; or you may hand-deliver your comments to the Boise Forest Supervisor's Office, located at 1249 South Vinnell Way, Suite 200, Boise, during normal business hours from 7:30 a.m. to 4:30 p.m., Monday through Friday, excluding Federal holidays. Electronic comments must be submitted in a format such as an e-mail message, plain text (.txt), rich text format (.rtf), or Word (.doc) to: comments-intermtn-boise@fs.fed.us.

Comments received in response to this solicitation, including names and addresses of those who comment, will be part of the public record for this proposed action. Comments submitted anonymously will be accepted and considered; however, anonymous comments will not provide the respondent with standing to appeal the subsequent decision.

FOR FURTHER INFORMATION CONTACT: Randall Hayman, Forest Planner, Boise National Forest at the address above. Individuals who use telecommunication devices for the deaf (TDD) may call the Federal Information Relay Service (FIRS) at 1-800-877-8339 between 8 a.m. and 8 p.m., Eastern Time, Monday through Friday.

SUPPLEMENTARY INFORMATION: Separate RODs for revised Forest Plans were issued in July 2003 for the Boise, Payette, and Sawtooth NFs. The RODs implemented Alternative 7, as identified in the single 2003 final EIS that disclosed the environmental effects of the seven alternatives. Forest Implementation of the three revised Forest Plans began in September 2003.

On September 14, 2007, the Forest Service published an NOT to prepare an EIS to disclose the environmental effects of proposed nonsignificant amendments to the three SWIE 2003 Forest Plans (Federal Register, Vol. 72, No. 178, pp. 52540-52542). In late 2007, following a long summer of wildfire, the Responsible Officials for the proposed amendments recognized that, since the Forest Plans were first implemented in 2003, all three Forests have experienced extensive wildfires that may have substantially changed vegetative conditions in many areas from those that existed in 2003. Because this change could affect the type of amendments needed, the three Forests decided to delay preparation of the proposed Forest Plan amendments and EIS so that vegetation baseline conditions could be updated and incorporated in the WCS and amendment process.

This vegetative baseline update and integration into the WCS analysis processes will be completed in the winter of 2009 and incorporated into the draft EIS for the forested biological community, to be released spring 2009, along with important new information concerning wildlife species and their habitat relationships. Consequently, this NOT is being corrected to reflect a delay of more than a year in filing the draft EIS, which was originally expected to be available in mid- to late-winter 2008 (FSH 1909.15, 21.2).

The September 14, 2007, NOT identified that all habitats across major biological communities on each of the three NFs would be addressed in a single environmental analysis. However, because the WCS and related amendments must address many species and associated habitats and, therefore, be extremely complex, the amendment process has now been divided into four phases, each with an individual environmental impact statement. The first phase will address the forested biological community, with subsequent phases slated to address rangeland; unique combinations of rangeland and forest; and riparian/wetland biological communities. This corrected NOT, which reflects the change in the approach to the amendment process, has been prepared for the EIS addressing the forested biological community in the first phase.

Purpose and Need for Action: Assessments supporting Forest Plan revision in 2003 identified more habitat areas in need of restoration for a variety of species within each planning unit than could be moved toward desired conditions by natural processes or management activities within the 10- to 15-year planning period. As a result, the 2003 Forest Plans for the Boise, Payette, and Sawtooth NFs identified that maintaining and restoring habitats for species of concern should be prioritized based upon the greatest risks to the persistence of certain species (Boise and Payette Forest Plans, p. 11-10 and Sawtooth Forest Plan, p. 11-9).

To address this need, each Forest Plan included a wildlife objective, WIOB03, to prioritize wildlife habitat to be restored at a mid- or Forest-scale, using information from sources such as species habitat models and fine scale analyses. The WCS currently being developed includes a prioritization framework for implementation of this forest plan direction that managers can use to help focus limited resources and funds for restoration on areas most important to species of concern.

WCS assessments completed to date indicate that most species of concern associated with the forested biological community are linked to habitats found in late-seral multi- or singlestoried montane and lower montane forests, including in some cases “old forest” habitat. Historically, these habitats contained an abundance of large diameter trees and snags (>20 inches diameter at breast height [d.b.h.]) with cavities important to species nesting, foraging or both.

Preliminary findings suggest there has been an overall reduction in the abundance of large trees and snags across most habitats, and the subsequent quality of these habitats, over the last 100 years. Of particular concern is the extent of reductions in single-storied late-seral and old forest habitats within the lower montane forests over the last 100 years that were previously dominated by large ponderosa pine trees and snags. These changes over the last 100 years are largely due to stand replacement wildfires, historical timber harvest, fire exclusion and increases in human occupancy and use.

There is a need to reconsider Forest Plan direction in response to new information and changed resource conditions:

• Forestwide and management area objectives need to consider the WCS habitat prioritization framework currently being developed.

• Management prescription MPC 5.2 allocations may need to be reallocated to management prescriptions with desired conditions consistent with habitat conservation, maintenance and restoration.

• Forest plan standards and guidelines pertaining to large tree-dominated habitat (e.g., wildlife standard WIST01) and large snags need to be reviewed to assure that these habitat components are conserved, maintained or restored, especially in lower montane and montane forests.

• There is a need to evaluate whether Forest Plan direction should be added that specifically addresses conservation of the subset of large tree-dominated habitat in lower montane forests called “old forest” habitat.

Impacts resulting from increases in human occupancy and use in priority habitat areas for species of concern need to be considered.

Proposed Action: The Proposed Action is threefold:

(1) Develop a Forest Plan Wildlife Conservation Strategy (WCS) that provides the information needed to improve Forest Plan strategies in a way that focuses limited funds and resources toward the highest priority habitats and species of concern, while minimizing threats to those species or habitats;

(2) Determine if amendments to Forest Plan management direction and/or other components of the three Forest Plans are needed to reflect findings and priorities identified in the WCS; and

(3) Update the wildlife assessments pertaining to 36 CFR 219.19 (1982), as needed, to reflect findings in updated analyses supporting the WCS, as well as outcomes anticipated from implementing the amended Forest Plans.

Responsible Officials: The Responsible Officials are the three Forest Supervisors for the Boise, Payette, and Sawtooth NFs.

Nature of Decision To Be Made: The Responsible Officials will review the final ETS and determine if the 2003 Plan for her respective Forest should be amended and/or modified, or if the current Forest Plan should remain unchanged.

Scoping Process: This corrected notice of intent continues the scoping process, which guides development of the ETS. Written comments must be received within 30 days following publication of this NOI in the Federal Register. Providing comments within this time period ensures that they will be available to the Forest Service at a time when it can meaningfully consider them during preparation of the specific proposed amendments and Draft EIS.

Beginning in December 2008, information about and status updates of this amendment process will be available on the Web site, http://fs.usda.gov/boise(click on “Wildlife Conservation Strategy”).

It is important that reviewers provide their comments at such times and in such manner that they are useful to the agency's preparation of the EIS. Therefore, comments should be provided prior to the close of the comment period and should clearly articulate the reviewer's concerns and contentions. The submission of timely and specific comments can affect a reviewer's ability to participate in subsequent administrative appeal or judicial review.

Dated: December 2, 2008.
Cecilia R. Seesholtz,
Forest Supervisor, Boise National.

[FR Doc. E8-28915 Filed 12-5-08; 8:45 am]

BILLING CODE 3410-11-M